CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of its Learn and Serve America Program and Performance Measurement Reports. These reports are used by current grantees, subgrantees and sub-subgrantees to report on Learn and Serve-funded service-learning programs. Data collected through the reports are utilized by the Corporation for Congressional reporting and program management. Completion of the Program and Performance Measurement Reports is a requirement of the Learn and Serve grant provisions.

Copies of the information collection requests can be obtained by contacting the office listed in the addresses section of this notice.

DATES: Written comments must be submitted to the individual and office listed in the ADDRESSES section by July 2, 2007.

ADDRESSES: You may submit comments, identified by the title of the information collection activity, by any of the following methods:

(1) By mail sent to: Corporation for National and Community Service, Research and Policy Development; Attention Kimberly Spring, Policy Analyst, 10th Floor; 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3464, Attention Kimberly Spring, Policy Analyst.

(4) Electronically through the Corporation's e-mail address system: kspring@cns.gov.

FOR FURTHER INFORMATION CONTACT: Kimberly Spring, (202) 606-6629, or by e-mail at kspring@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Learn and Serve America Program was established by the National and Community Service Act of 1990, as amended, (42 U.S.C. 12501, et seq.) (Pub. L. 103-82) to support efforts in schools, higher education institutions, and community-based organizations to involve young people in meaningful service to their communities while improving academic, civic, social, and career-related skills. The Learn and Serve program is administered by the Corporation for National and Community Service and is funded through grants to states, national organizations, and institutions of higher education, and through them to individual schools and school districts, community-based organizations, and colleges or universities. Approximately 100 grantees and 2,000 subgrantees and sub-subgrantees receive Learn and Serve funds each year.

The Learn and Serve America Program and Performance Measurement Reports provide an annual program reporting process for Learn and Serve: Collecting program characteristics, output measurements, and institutional-level service-learning policies and practices. The system is Web-based and allows for the electronic submission of reporting information and grantee and public-use access of data collected through the system.

Current Action

The Corporation seeks to renew the current reporting instruments, which are designed to collect information on (a) the characteristics of grantee and subgrantee organizations; (b) the scope and structure of service-learning activities in the funded organizations; (c) number of participants in service-learning and the hours of service provided; and (d) institutional supports for service-learning. The Corporation maintains three versions of the reporting instrument to correspond to the three major funding streams under Learn and Serve America: K-12 School-Based, Higher Education, and Community-Based. The Corporation also seeks to continue using the reporting instruments until the renewal of the instruments is approved by OMB. The current application is due to expire on September 30, 2007.

Type of Review: Renewal.

Agency: Corporation for National and Community Service.

Title: Learn and Serve America Program and Performance Measurement Reports.

OMB Number: 3045-0095.

Agency Number: None.

Affected Public: Learn and Serve America Grantees and Subgrantees.

Total Respondents: 2,100.

Frequency: Annually.

Average Time Per Response: ¼ hour for grantees and one hour for subgrantees.

Estimated Total Burden Hours: 2,025 hours.

Total Burden Cost (capital/startup): None.

Total Burden Cost (operating/maintenance): None.

Comments submitted in response to this notice will be summarized and/or included in the request for Office of Management and Budget approval of the information collection request; they will also become a matter of public record.

Dated: April 24, 2007.
Robert Grimm, Jr.,
Director, Office of Research and Policy Development.

[FR Doc. E7-8350 Filed 5-1-07; 8:45 am]

BILLING CODE 6050-$$-P